DEPARTMENT OF TRANSPORTATION

Federal Aviation Administration

14 CFR Part 39

[Docket No. FAA-2023-0669; Project Identifier MCAI-2022-01238-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2006-10-13, which applies to all Airbus SAS Model A330-223, -321, -322, and -323 airplanes. AD 2006-10-13 requires repetitive inspections of the firewall of the lower aft pylon fairing (LAPF), and corrective actions if necessary. AD 2006-10-13 also provides an optional terminating action for the repetitive inspections. Since the FAA issued AD 2006-10-13, an updated LAPF was designed, the installation of which constitutes terminating action for the repetitive inspection required by AD 2006-10-13. This proposed AD would continue to require the actions specified in AD 2006-10-13, provide new optional terminating actions, and change the applicability to exclude certain airplanes, as specified in a European Union Aviation Safety Agency (EASA) AD, which is proposed for incorporation by reference (IBR). The FAA is proposing this AD to address the unsafe condition on these products.

DATES: The FAA must receive comments on this proposed AD by May 26, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0669; or in person at Docket Operations between 9 a.m. and 5 p.m., Monday through Friday, except Federal holidays. The AD docket contains this NPRM, the mandatory continuing airworthiness information (MCAI), any comments received, and other information. The street address for Docket Operations is listed above.

Material Incorporated by Reference:

• For the AD identified in this NPRM, you may contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2023-0669.

• You may view this service information at the FAA, Airworthiness Products Section, Operational Safety Branch, 2200 South 216th St., Des Moines, WA. For information on the availability of this material at the FAA, call 206-231-3195.

FOR FURTHER INFORMATION CONTACT: Vladimir Ulyanov, Aerospace Engineer, Large Aircraft Section, FAA, International Validation Branch, 2200 South 216th St., Des Moines, WA 98198; telephone 206-231-3229; email vladimir.ulyanov@faa.gov.

SUPPLEMENTARY INFORMATION:

Comments Invited

The FAA invites you to send any written relevant data, views, or arguments about this proposal. Send your comments to an address listed under ADDRESSES. Include “Docket No. FAA-2023-0669; Project Identifier MCAI-2022-01238-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Vladimir Ulyanov, Aerospace Engineer, Large Aircraft Section, FAA, International Validation Branch, 2200 South 216th St., Des Moines, WA 98198; telephone 206-231-3229; email vladimir.ulyanov@faa.gov. Any commentary that the FAA receives which is not specifically designated as CBI will be placed in the public docket for this rulemaking.

Background

The FAA issued AD 2006-10-13, Amendment 39-14597 (71 FR 28250, May 16, 2006) (AD 2006-10-13), for all Airbus SAS Model A330-223, -321, -322, and -323 airplanes. AD 2006-10-13 was prompted by MCAI originated by the Direction Générale de l'Aviation Civile (DGAC), which is the former airworthiness authority for France. DGAC issued French airworthiness directive F-2004-028 R2, dated October 26, 2005 (DGAC France AD F-2004-028 R2), to correct an unsafe condition identified as cracking of the LAPF firewall.

AD 2006-10-13 requires repetitive detailed inspections for cracking of the LAPF firewall, and corrective actions if necessary. AD 2006-10-13 also provides an optional terminating action for the repetitive inspections. The FAA issued AD 2006-10-13 to address cracking of the LAPF firewall, which could reduce the effectiveness of the firewall and result in an uncontrolled engine fire.

Actions Since AD 2006-10-13 Was Issued

Since the FAA issued AD 2006-10-13, EASA, which is the Technical Agent for the Member States of the European Union superseded DGAC France AD F-2004-028 R2 and issued EASA AD 2022-0190, dated September 14, 2022 (EASA AD 2022-0190) (referred to after this as the MCAI), to correct an unsafe condition on certain Airbus SAS Model A330-223, A330-321, A330-322, and A330-323 airplanes. The MCAI states that since DGAC France AD F-2004-028 R2 was issued, Airbus designed an updated LAPF, the installation of which also constitutes terminating action for the repetitive inspections required by DGAC France AD F-2004-028 R2. EASA AD 2022-0190 retains the requirements of DGAC France AD F-2004-028 R2, and includes reference to an additional optional terminating action modification. EASA AD 2022-0190 also excludes airplanes on which the optional terminating action was embodied in production from its applicability.

In AD 2006-10-13, the FAA included requirements related to crack lengths greater than 1.5 inches or to multiple cracks with a combined length greater than or equal to 1.5 inches, as well as a requirement to repair before further flight if a crack is greater than 1.5 inches long or if multiple cracks are found with a combined length of greater than 1.5 inches. AD 2006-10-13 also omitted a requirement to stop-drill the crack or cracks and apply sealant before further flight for cracks that extended to greater than 1.2 inches long but less than or equal to 1.5 inches long. The FAA has since determined that this AD should match DGAC France AD F-2004-028 R2 and EASA AD 2022-1190 and require actions (including stop-drilling any cracks and applying sealant) based on any crack length being less than or equal to 30.48mm (1.2 inches) or greater than or equal to 30.48mm (1.2 inches). The FAA has determined that the stop-drilling and sealant application are adequate to address any cracks and maintain the fire safety and capability of the firewall until the required LAPF firewall repair is done as specified in EASA AD 2022-1190. This proposed AD would include a grace period for airplanes to switch to the new proposed requirements.

The FAA is proposing this AD to address the unsafe condition on these products. You may examine the MCAI in the AD docket at regulations.gov under Docket No. FAA-2023-0669.

Explanation of Retained Requirements

Although this proposed AD does not explicitly restate the requirements of AD 2006-10-13, this proposed AD would retain certain of the requirements of AD 2006-10-13. Those requirements are referenced in EASA AD 2022-0190, which, in turn, is referenced in paragraph (g) of this proposed AD.

Related Service Information Under 1 CFR Part 51

EASA AD 2022-0190 specifies procedures for repetitively inspecting each LAPF firewall for cracks, and performing corrective actions, including stop-drilling the crack and applying sealants, and repairing the LAPF firewall. EASA AD 2022-0190 also specifies terminating actions for the repetitive inspections, including modifying and reidentifying the LAPF or replacing the LAPF with an LAPF having part number 72A100-713. This material is reasonably available because the interested parties have access to it through their normal course of business or by the means identified in the ADDRESSES section.

FAA's Determination

This product has been approved by the aviation authority of another country and is approved for operation in the United States. Pursuant to the FAA's bilateral agreement with the State of Design Authority, it has notified the FAA of the unsafe condition described in the MCAI referenced above. The FAA is issuing this NPRM after determining that the unsafe condition described previously is likely to exist or develop in other products of the same type design.

Proposed AD Requirements in This NPRM

This proposed AD would retain certain requirements of AD 2006-10-13. This proposed AD would require accomplishing the actions specified in EASA AD 2022-0190 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2022-0190 by reference in the FAA final rule. This proposed AD would, therefore, require compliance with EASA AD 2022-0190 in its entirety through that incorporation, except for any differences identified as exceptions in the regulatory text of this proposed AD. Using common terms that are the same as the heading of a particular section in EASA AD 2022-0190 does not mean that operators need comply only with that section. For example, where the AD requirement refers to “all required actions and compliance times,” compliance with this AD requirement is not limited to the section titled “Required Action(s) and Compliance Time(s)” in EASA AD 2022-0190. Service information required by EASA AD 2022-0190 for compliance will be available at regulations.gov under Docket No. FAA-2023-0669 after the FAA final rule is published.

Costs of Compliance

The FAA estimates that this AD, if adopted as proposed, would affect 41 airplanes of U.S. registry. The FAA estimates the following costs to comply with this proposed AD:

Estimated Costs for Required Actions
Action | Labor cost | Parts cost | Cost per product | Cost on U.S. operators
Retained actions from AD 2006-10-13 | 7 work-hours × $85 per hour = $595 | $0 | $595 | $24,395

Estimated Costs for Optional Actions
Labor cost | Parts cost | Cost per product
14 work-hours × $85 per hour = $1,190 | $120,000 | $121,190

The FAA estimates the following costs to do any necessary on-condition actions that would be required based on the results of any required or optional actions. The FAA has no way of determining the number of aircraft that might need these on-condition actions:

Estimated Costs of On-Condition Actions
Labor cost | Parts cost | Cost per product
7 work-hours × $85 per hour = $595 | $120,000 | $120,595

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2006-10-13, Amendment 39-14597 (71 FR 28250, May 16, 2006); and

b. Adding the following new AD:

Airbus SAS: Docket No. FAA-2023-0669; Project Identifier MCAI-2022-01238-T.

(a) Comments Due Date

The FAA must receive comments on this airworthiness directive (AD) by May 26, 2023.

(b) Affected ADs

This AD replaces AD 2006-10-13, Amendment 39-14597 (71 FR 28250, May 16, 2006) (AD 2006-10-13).

(c) Applicability

This AD applies to Airbus SAS Model A330-223, A330-321, A330-322, and A330-323 airplanes, certificated in any category, as identified in European Union Aviation Safety Agency (EASA) AD 2022-0190, dated September 14, 2022 (EASA AD 2022-0190).

(d) Subject

Air Transport Association (ATA) of America Code 54, Nacelles/pylons.

(e) Unsafe Condition

This AD was prompted by reports of cracking of the lower aft pylon fairing (LAPF) firewall, and by the development of an optional terminating replacement. The FAA is issuing this AD to address this cracking, which could reduce the effectiveness of the firewall and result in an uncontrolled engine fire.

(f) Compliance

Comply with this AD within the compliance times specified, unless already done.

(g) Requirements

Except as specified in paragraphs (h) and (i) of this AD: Comply with all required actions and compliance times specified in, and in accordance with, EASA AD 2022-0190.

(h) Exceptions to EASA AD 2022-0190

(1) Where EASA AD 2022-0190 refers to “28 February 2004 [the effective date of DGAC France AD F-2004-028 at original issue],” this AD requires using June 20, 2006 (the effective date of AD 2006-10-13).

(2) For any airplane on which a crack has been found and a stop-drill of the crack and sealant application has not been done as specified in paragraph (4.1) of EASA AD 2022-0190 as of the effective date of this AD: Within 30 days after the effective date of this AD, accomplish the actions specified in paragraph (4.1) of EASA AD 2022-0190.

(3) Where paragraph (2) of EASA AD 2022-0190 specifies a crack length, replace the text “up to 30.48 mm” with “less than or equal to 30.48 mm (1.2 inches)”

(4) This AD does not adopt the “Remarks” section of EASA AD 2022-0190.

(i) No Reporting Requirement

Although the service information referenced in EASA AD 2022-0190 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov.

(i) Before using any approved AMOC, notify your appropriate principal inspector, or lacking a principal inspector, the manager of the responsible Flight Standards Office. (ii) AMOCs approved previously for AD 2006-10-13 in FAA Letters ANM-116-17-235 and AIR-676-20-117 are approved as AMOCs for the corresponding provisions of EASA AD 2022-0190 that are required by paragraph (g) of this AD.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Vladimir Ulyanov, Aerospace Engineer, Large Aircraft Section, FAA, International Validation Branch, 2200 South 216th St., Des Moines, WA 98198; telephone 206-231-3229; email vladimir.ulyanov@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0190, dated September 14, 2022.

(ii) [Reserved]

(3) For EASA AD 2022-0190, contact EASA, Konrad-Adenauer-Ufer 3, 50668 Cologne, Germany; telephone +49 221 8999 000; email ADs@easa.europa.eu; website easa.europa.eu. You may find this EASA AD on the EASA website at ad.easa.europa.eu.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on April 5, 2023.
Christina Underwood,
Acting Director, Compliance & Airworthiness Division, Aircraft Certification Service.

[FR Doc. 2023-07531 Filed 4-10-23; 8:45 am]

BILLING CODE 4910-13-P